DEPARTMENT OF TRANSPORTATION

Federal Aviation Administration

Notice of Intent To Rule on Application To Impose and Use the Revenue From a Passenger Facility Charge (PFC) at Bemidji/Beltrami County Airport, Bemidji, MN

AGENCY: Federal Aviation Administration (FAA), DOT.

ACTION: Notice of intent to rule on application.

SUMMARY: The FAA proposes to rule and invites public comment on the application to impose and use the revenue from a PFC at Bemidji/Beltrami County Airport under provisions of the Aviation Safety and Capacity Expansion Act of 1990 (Title IX of the Omnibus Budget Reconciliation Act of 1990) (Pub. L. 101-508) and part 158 of the Federal Aviation Regulations (14 CFR part 158).

DATES: Comments must be received on or before November 8, 2001.

ADDRESSES: Comments on this application may be mailed or delivered in triplicate to the FAA at the following address: Minneapolis Airports District Office, 6020 28th Avenue South, Room 102, Minneapolis, Minnesota 55450.

In addition, one copy of any comments submitted to the FAA must be mailed or delivered to Mr. Philip C. Shealy, Airport Manager, Bemidji/Beltrami County Airport at the following address: 317 4th Street NW., Bemidji, MN 56601-3116. Air carriers and foreign air carriers may submit copies of written comments previously provided to Bemidji/Beltrami County Airport under § 158.23 of part 158.

FOR FURTHER INFORMATION CONTACT: Mr. Daniel J. Millenacker, Program Manager, Federal Aviation Administration, Minneapolis Airports District Office, 6020 28th Avenue South, Room 102, Minneapolis, MN 55450, (612) 713-4350. The application may be reviewed in person at this same location.

SUPPLEMENTARY INFORMATION: The FAA proposes to rule and invites public comment on the application to impose and use the revenue from a PFC at Bemidji/Beltrami County Airport under provisions of the Aviation Safety and Capacity Expansion Act of 1990 (Title IX of the Omnibus Budget Reconciliation Act of 1990) (Pub. L. 101-508) and part 158 of the Federal Aviation Regulations (14 CFR part 158).

On September 18, 2001, the FAA determined that the application to impose and use the revenue from a PFC submitted by Bemidji/Beltrami County Airport was substantially complete within the requirements of § 158.25 of part 158. The FAA will approve or disapprove the application, in whole or in part, no later than January 15, 2002.

The following is a brief overview of the application.

PFC application number: 01-02-C-00-BJI.

Level of the proposed PFC: $4.50.

Proposed charge effective date: February 1, 2002.

Proposed charge expiration date: August 1, 2003.

Total estimated PFC revenue: $201,952.00.

Brief description of proposed projects: Acquire airport rescue and fire fighting vehicle; Improve terminal; Replace runway and taxiway lighting cables; Deer fence phase I; Expand auto parking lot; Improve boundary fence; Seal coat parking lot; Install terminal security; PFC Application, Rehabilitate apron; Update master plan; and Replace snow removal equipment.

Class or classes of air carriers which the public agency has requested not be required to collect PFCs: Nonscheduled/On-Demand Air Carriers and Commuters or Small Certificated Air Carriers.

Any person may inspect the application in person at the FAA office listed above under FOR FURTHER INFORMATION CONTACT. In addition, any person may, upon request, inspect the application, notice and other documents germane to the application in person at the Bemidji/Beltrami County Airport.

Issued in Des Plaines, Illinois on September 26, 2001.
Barbara J. Jordan,
Acting Manager, Planning and Programming Branch, Airports Division, Great Lakes Region.

[FR Doc. 01-25296 Filed 10-5-01; 8:45 am]

BILLING CODE 4910-13-M